DEPARTMENT OF ENERGY

Federal Energy Regulatory Commission

[Docket No. PF06-12-000]

Equitrans, LP; Notice of Intent To Prepare an Environmental Assessment for the Proposed Big Sandy Pipeline Project, Request for Comments on Environmental Issues and Notice of Site Visit

February 3, 2006.

The staff of the Federal Energy Regulatory Commission (FERC or Commission) will prepare an environmental assessment (EA) that will discuss the environmental impacts of Equitrans, LP's (Equitrans) planned Big Sandy Pipeline Project located in Floyd, Johnson, Lawrence, and Carter County, Kentucky.

This notice announces the opening of the scoping process we will use to gather input from the public and interested agencies on the project. Your input will help the Commission staff determine which issues need to be evaluated in the EA. Please note that the scoping period will close on March 24, 2006.

This notice is being sent to affected landowners; federal, state, and local government representatives and agencies; environmental and public interest groups; Native American tribes; other interested parties in this proceeding; and local libraries and newspapers. We encourage government representatives to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility on My Land? What Do I Need to Know?” is available for viewing on the FERC Internet Web site (http://www.ferc.gov). This fact sheet addresses a number of typically asked questions, including the use of eminent domain and how to participate in the FERC's proceedings.

Summary of the Proposed Project

The project would consist of construction of about 60 miles of 20-inch-diameter pipeline. The pipeline would originate at the discharge of the existing Kentucky Hydrocarbon plant in Langley, Kentucky and terminate at Tennessee Gas Pipeline Company's Broad Run Lateral in Carter County, Kentucky. Equitrans would also construct one new 5,000 horsepower compressor station on the south end of the line. One pig launcher, one pig receiver, eight mainline valves, and one new metering and regulating station would also be constructed along the pipeline. Location maps depicting Equitrans' proposed facilities are provided in Appendix 1.¹

¹ The appendices referenced in this notice are not being printed in the Federal Register. Copies are available on the Commission's website (excluding maps) at the “eLibrary” link or from the Commission's Public Reference Room or call (202) 502-8371. For instructions on connecting to eLibrary refer to the end of this notice. Copies of the appendices were sent to all those receiving this notice in the mail.

Equitrans indicates that these facilities are needed to provide much needed relief for the summer capacity constraints that are currently restricting gas production in the eastern Kentucky basin.

Equitrans anticipates filing an application with the FERC in June 2006. If approved, Equitrans would seek approval to begin construction by September 2006, with a proposed in-service date of April 1, 2007.

Land Requirements

Construction of the project facilities would disturb about 912 acres of land. Following construction, about 550 acres of the total would be retained for the operation of the pipeline and the aboveground facilities (compressor and meter stations). Equitrans currently proposes to use a nominal 100-foot-wide right-of-way (ROW) to construct its pipeline, with occasional increases in width for additional workspace at waterbody, wetland, road, and railroad crossings. Temporary extra workspaces may also be required in areas with site-specific constraints, such as side-slope construction. Other temporary land requirements would include areas needed for pipe storage and equipment yards. For operation of the pipeline facilities, Equitrans proposes a 50-foot-wide permanent ROW.

Currently Identified Environmental Issues

We have already identified several issues that we think deserve attention based on a preliminary review of the proposed facilities and information provided by Equitrans. This list of issues may be changed based on your comments and our analysis:

• The effect of blasting on groundwater;

• Difficult ROW restoration in areas of side slope construction; and

• Impact on visual resources due to vegetation clearing to create a new ROW.

The EA Process

The FERC will be the lead federal agency for the preparation of the EA. The document will satisfy the requirements of the National Environmental Policy Act (NEPA). The Big Sandy Pipeline Project is in the preliminary design state.

For this project, the FERC staff has initiated its National Environmental Policy Act (NEPA) review prior to receiving the application. The purpose of the Commission's Pre-Filing Process is to involve interested stakeholders early in project planning and to identify and resolve issues before an application is filed with the FERC. A docket number (PF06-12-000) has been established to place information filed by Equitrans, and related documents issued by the Commission, into the public record. Once a formal application is filed with the FERC, a new docket number will be established.

NEPA requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, we are requesting public comments on the scope of the issues that should be addressed in the EA. We will consider all comments received during scoping in the preparation of the EA.

Our independent analysis and evaluation of the issues will be included in the EA. The EA will also include possible alternatives to the proposed project or portions of the project, and we will make recommendations on how to lessen or avoid impacts on the various resource areas of concern. Depending on the comments received during the scoping process, the EA may be published and mailed to federal, state, and local agencies; elected officials; environmental and public interest groups; other interested parties; affected landowners; Native American tribes; libraries, and newspapers; and the Commission's official service list for this proceeding. A 49-day comment period will be allotted for review of the EA. We will consider all comments submitted on the EA in any Commission Order that is issued for the project.

We are currently involved in discussions with other jurisdictional agencies to identify their issues and concerns. These agencies include the U.S. Army Corps of Engineers, U.S. Fish and Wildlife Service, Kentucky Department of Environmental Protection—Division of Water, Kentucky Department of Fish and Wildlife, Kentucky Department of Natural Resources, Kentucky State Nature Preserve Commission, Kentucky Heritage Council, and the Eastern Band of Cherokee Indians. By this notice, we are asking these and other federal, state, and local agencies with jurisdiction and/or special expertise with respect to environmental issues to formally cooperate with us in the preparation of the EA. Agencies that would like to request cooperating status should follow the instructions for filing comments provided below.

Public Participation

You can make a difference by providing us with your specific comments or concerns about the proposals. Your comments should focus on the potential environmental effects, reasonable alternatives and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426;

• Label one copy of the comments for the attention of Gas Branch 1, DG2E;

• Reference Docket No. PF06-12-000 on the original and both copies; and

• Mail your comments so that they will be received in Washington, DC on or before March 24, 2006.

Please note that the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a “Comment on Filing.”

When Equitrans submits its application for authorization to construct and operate the Big Sandy Pipeline Project, the Commission will publish a Notice of Application in the Federal Register and will establish a deadline for interested persons to intervene in the proceeding. Because the Commission's Pre-Filing Process occurs before an application to begin a proceeding is officially filed, petitions to intervene during this process are premature and will not be accepted by the Commission.

Site Visit

On February 22 and 23, 2006, the OEP staff will conduct a pre-certification site visit of the planned Big Sandy Pipeline Project.

We will view the proposed route and variations that are being considered for the planned pipeline. Staff will view the area by helicopter on February 22, 2006, and by automobile and on foot on February 23, 2006. Representatives of Equitrans will be accompanying the OEP staff.

All interested parties may attend the site visit on February 23, 2006. Those planning to attend must provide their own transportation. If you are interested in attending the site visit, please meet us at 8 a.m. in the parking lot of the Paintsville Ramada Inn, 624 James Trimble Blvd, Paintsville, Kentucky.

For additional information, please contact the Commission's Office of External Affairs at 1-866-208-FERC (3372).

Equitrans Sponsored Open Houses

You may have also been notified by Equitrans that it plans on holding two public open houses designed to provide opportunities to explain the project to stakeholders. OEP staff will be attending these events and will be available to answer questions about the NEPA process. FERC staff may utilize these open houses to determine the amount of stakeholder interest in the project to identify if a FERC sponsored public scoping meeting would be necessary in the project area at a later date. The location and dates for Equitrans' open houses are as follows:

February 22, 2006 at 6:30 p.m. (EST); Paintsville Ramada Inn, 624 James Trimble Blvd., Paintsville, Kentucky.

February 23, 2006 at 6:30 p.m. (EST); Louisa Community Center, 101 West Pike St., Louisa, Kentucky.

Environmental Mailing List

The determination of whether to distribute the EA for public comment will be based on the response to this notice. If you are interested in receiving it, please return the Information Request (Appendix 2).

Availability of Additional Information

Additional information about the project is available from the Commission's Office of External Affairs at 1-866-208 FERC (3372) or on the FERC Internet Web site (http://www.ferc.gov). Using the “eLibrary” link, select “General Search” from the eLibrary menu, enter the selected date range and “Docket Number” (i.e., PF06-12-000), and follow the instructions. Searches may also be done using the phrase “Big Sandy Pipeline” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

You can also contact David J. Spigelmyer, Equitrans Representative, by phone at (412) 553-5739 or by e-mail at dspigelmyer@eqt.com with your specific concerns or comments regarding this project.

Magalie R. Salas,
Secretary.

[FR Doc. E6-1856 Filed 2-9-06; 8:45 am]

BILLING CODE 6717-01-P